COMMODITY FUTURES TRADING COMMISSION

Agency Information Collection Activities Under OMB Review

AGENCY: Commodity Futures Trading Commission.

ACTION: Notice.

SUMMARY: In compliance with the Paperwork Reduction Act (44 U.S.C. 3501 et seq.), this notice announces that the Information Collection Request (ICR) abstracted below has been forwarded to the Office of Management and Budget (OMB) for review and comment. The ICR describes the nature of the information collection and its expected costs and burden.

DATES: Comments must be submitted on or before August 29, 2007.

FOR FURTHER INFORMATION CONTACT: Christopher W. Cummings, Division of Clearing and Intermediary Oversight, CFTC, (202) 418-5445; FAX: (202) 418-5426; e-mail: ccummings@cftc.gov and refer to OMB Control No. 3038-0049.

SUPPLEMENTARY INFORMATION:

Title: Registration under the Commodity Exchange Act (OMB Control No. 3038-0023). This is a request for extension of a currently approved information collection.

Abstract: The Commodity Exchange Act (Act) authorizes the Commission to deny, revoke or condition registration under the Act if an applicant or registrant is subject to various statutory disqualifications from registration, such as a prior registration revocation or conviction of a felony or certain misdemeanors. The registration application, which must be updated as necessary, requires information about an applicant's or registrant's disciplinary history so that the person's fitness for registration may be evaluated. In addition, basic identifying information is required so that a database will be available to current and prospective customers, the public, and the news media.

The information on registration applications is used to develop a database known as BASIC (Background Affiliation Status Information Center), which is Internet-accessible and consulted frequently by customers, prospective customers, the general public, and the news media to review data provided by applicants and registrants and to compare it to information provided by entities making solicitations.

An agency may not conduct or sponsor, and a person is not required to respond to, a collection of information unles it displays a currently valid OMB control number. The OMB control numbers for the CFTC's regulations were published on December 30, 1981. See 46 FR 63035 (Dec. 30, 1981). The Federal Register notice with a 60-day comment period soliciting comments on this collection of information was published on May 23, 2007 (72 FR 28960).

Burden statement: The respondent burden for this collection is estimated to average .09 hours per response. These estimates include the time needed to review instructions; develop, acquire, install, and utilize technology and systems for the purposes of collecting, validating, and verifying information, processing and maintaining information, and disclosing and providing information; adjust the existing ways to comply with any previously applicable instructions and requirements; train personnel to be able to respond to a collection of information; and transmit or otherwise disclose the information.

Respondents/Affected Entities: Futures Commission Merchants, Introducing Brokers, Commodity Pool Operators, Commodity Trading Advisors, Associated Persons of each of the foregoing, Floor Brokers, and Floor Traders.

Estimated number of respondents: 70,708.

Estimated total annual burden on respondents: 6,628 hours.

Frequency of collection: On occasion.

Send comments regarding the burden estimated or any other aspect of the information collection, including suggestions for reducing the burden, to the addresses listed below. Please refer to OMB Control No. 3038-0023 in any correspondence.

Christopher W. Cummings, Division of Clearing and Intermediary Oversight, U.S. Commodity Futures Trading Commission, 1155 21st Street, NW., Washington, DC 20581; and Office of Information and Regulatory Affairs, Office of Management and Budget, Attention: Desk Officer for CFTC, 725 17th Street, Washington, DC 20503.

Dated: July 24, 2007.
Eileen Donovan,
Acting Secretary of the Commission.

[FR Doc. 07-3699 Filed 7-27-07; 8:45 am]

BILLING CODE 6351-01-M